DEPARTMENT OF COMMERCE

National Oceanic and Atmospheric Administration

Proposed Information Collection; Comment Request; Alaska Region Amendment 80 Permits and Reports

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 14, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to NMFS Alaska Region, Patsy A. Bearden, at patsy.bearden@noaa.gov or call (907) 586-7008.

SUPPLEMENTARY INFORMATION:

I. Abstract

This request is for extension of a currently approved information collection.

Amendment 80 to the Fishery Management Plan for Groundfish of the Bering Sea and Aleutian Islands Management Area allocates several Bering Sea and Aleutian Islands Management Area non-pollock trawl groundfish fisheries among fishing sectors, established a limited access privilege program, and facilitated the formation of harvesting cooperatives in the non-American Fisheries Act (non-AFA) trawl catcher/processor sector. The Amendment 80 Fishery Management Plan applies retention standards on an aggregate basis to all activities of a cooperative, allowing participants within the cooperative to coordinate fishing and retention practices across the cooperative to meet the retention requirements.

II. Method of Collection

Information may be submitted online at http://www.alaskafisheries.noaa.gov or submitted as an attachment to email to RAM.Alaska@noaa.gov. Applications are “fillable” on the computer screen at http://alaskafisheries.noaa.gov/sustainablefisheries/amds/80/default.htm#apps, then downloaded, printed, faxed or mailed to NMFS.

III. Data

OMB Control Number: 0648-0565.

Form Number(s): None.

Type of Review: Regular submission (extension of a currently approved information collection).

Affected Public: Individuals or households; business or other for-profit organizations.

Estimated Number of Respondents: 37.

Estimated Time per Response: 2 hours each for Application for Amend 80 QS; Application for Amend 80 Cooperative and CQ Permit; Application for Amend 80 limited access fishery; Application to transfer Amend 80 QS; Application for Amendment 80 Vessel Replacement and Application for inter-cooperative transfer Amend 80 CQ; 25 hours for Amend 80 cooperative report; 4 hours for Amend 80 appeals letter; 30 minutes for Flatfish Exchange Application.

Estimated Total Annual Burden Hours: 204.

Estimated Total Annual Cost to Public: $544 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 9, 2015.
Sarah Brabson,
NOAA PRA Clearance Officer.

[FR Doc. 2015-17194 Filed 7-13-15; 8:45 am]

BILLING CODE 3510-22-P